DEPARTMENT OF HOMELAND SECURITY

[Docket No. DHS-2019-0056]

Automated Solutions for the Submission of REAL ID Source Documents

AGENCY: Office of Strategy, Policy, and Plans, Department of Homeland Security.

ACTION: Request for comments.

SUMMARY: The Department of Homeland Security is issuing this request for information to receive input on technologies that could assist states and their residents in the digital submission, receipt, and authentication of documents and information applicants must provide when applying for a REAL ID compliant driver's license or identification card.

DATES: Interested persons are invited to submit comments on or before December 9, 2019. Comments received after that date will be considered to the extent practicable.

ADDRESSES: You may submit comments, identified by docket number DHS-2019-0056 through the Federal eRulemaking Portal: http://www.regulations.gov. See the “Public Participation and Request for Comments” portion of the SUPPLEMENTARY INFORMATION section for further instructions on submitting comments.

FOR FURTHER INFORMATION CONTACT: Steve Yonkers, Director, Identity and Credentialing/REAL ID Program, U.S. Department of Homeland Security, Office of Policy, Strategy, and Plans, Washington, DC 20528, 202-447-3274.

SUPPLEMENTARY INFORMATION: The Department of Homeland Security (DHS) is issuing this request for information to receive input on technologies that could assist states and their residents in the digital submission, receipt, and authentication of documents and information applicants must provide when applying for a REAL ID compliant driver's license or identification card.

I. Public Participation and Request for Comments

Interested persons are invited to comment on this notice by submitting written comments, data, or views using the method identified in the ADDRESSES section. DHS encourages you to submit comments through the Federal eRulemaking Portal at https://www.regulations.gov. If you cannot submit your material by using https://www.regulations.gov, contact the person in the FOR FURTHER INFORMATION CONTACT section of this notice for alternate instructions. All comments received will be posted without change to http://www.regulations.gov.

II. Background and Purpose

The REAL ID Act, passed by Congress in 2005, prohibits federal agencies from accepting for official purposes, a state issued driver's license or identification card, unless the state is meeting minimum security requirements in the Act and implementing regulations. The REAL ID Act requires applicants for a REAL ID-compliant license or card to present certain identity, and citizenship or lawful status, documentation and for states to verify and retain copies of that information.

The REAL ID Act does not specify the mode for presenting the various identity and lawful status and citizenship documentation. However, the regulations include requirements for document authentication and in-person application. DHS is interested in all substantive business and technical proposals that could streamline REAL ID application requirements in a manner that continues to ensure the secure and reliable transmission and receipt of applicant information.

DHS is therefore seeking public comment on how the development and deployment of additional capabilities or technologies can assist in streamlining the process for individuals to submit the required documentation and information when applying for a REAL ID-compliant driver's license or identification card. We are interested in concepts that reduce application burden, processing time, and administrative workload, and that effectively ensure security, protect privacy, and manage risk of fraud. We are also interested in concepts that identify the extent to which the additional capabilities or technologies will increase the adoption rate of individuals obtaining REAL ID-compliant identification. In addition, we are interested in any cost data on the purchase, installation, or implementation of these concepts.

DHS requests comments from the public and interested stakeholders—including entities engaged in the development, testing, and integration of these concepts—for near, medium, and long-term solutions.

DHS will afford significantly greater weight to feedback that identifies specific capabilities and technologies, includes actionable data, or provides viable alternatives that meet statutory objectives and regulatory requirements. Feedback that simply states that a stakeholder feels strongly that DHS make a change, but that does not contain specific information on how the proposed change would streamline the process or reduce burdens, is much less useful to DHS. DHS is looking for new information or new economic (i.e., cost) data to support any proposed changes.

DHS will review all submissions to determine the viability of specific proposals to meet the objective of streamlining the application process in accordance with the REAL ID Act and implementing regulations. DHS may contact individual submitters for more information. DHS reserves the right to use and share the information submitted with other federal agencies for purposes related to administering the REAL ID Act and implementing regulations.

III. Lists of Questions for Commenters

We provide the below list of non-exhaustive questions to assist in the formulation of comments. However, we do not intend for the list to restrict the issues that commenters may address.

1. What capabilities or technologies are available to allow applicants for REAL ID-compliant credentials to submit digitally, or have digitally submitted on their behalf by a trusted third party, the required documents and information to state driver's licensing agencies?

2. How would states use such capabilities or technologies to authenticate the validity of submitted documents and information?

3. How would states use such capabilities or technologies to verify an applicant's identity from the documents and information submitted?

4. What would be the cost to a stakeholder to purchase, install, or implement these capabilities or technologies?

5. What is the technical readiness level of the potential capabilities or technologies, where have they already been deployed, for what purposes, and what are the performance results?

6. How would states use such capabilities or technologies to ensure that the information is submitted by the genuine applicant?

7. How would the capabilities or technologies protect against fraud or identity theft?

8. How would such capabilities or technologies protect the privacy of any submitted personally identifiable information?

9. What, if any, new risks may result from the use of these new capabilities or technologies and how can they be effectively be managed?

10. What security standards should the described capabilities or technologies meet?

11. How would the capabilities or technologies be integrated into existing state application processes and systems?

12. How quickly could the capabilities or technologies be developed and deployed by the states?

13. How will the new capabilities or technologies increase the adoption rate of individuals obtaining REAL ID-compliant identification?

The Department issues this notice solely for information and program planning purposes. Responses to this notice do not bind DHS to any further actions related to the response.

Dated: November 1, 2019.
Chad Wolf,
Senior Official Performing the Duties of Under Secretary, Office of Strategy, Policy, and Plans, U.S. Department of Homeland Security.

[FR Doc. 2019-24330 Filed 11-6-19; 8:45 am]

BILLING CODE 9110-9M-P